DEPARTMENT OF JUSTICE

Notice of Lodging of Proposed Consent Decree Under the Clean Air Act

On October 17, 2024, the Department of Justice lodged a proposed consent decree with the United States District Court for the District of New Mexico in the lawsuit entitled United States of America and New Mexico Environment Department v. Hilcorp Energy Company, Civil Action No. 1:24-cv-01055.

In this action, the United States, on behalf of the U.S. Environmental Protection Agency, and the New Mexico Environment Department filed a complaint alleging that Hilcorp Energy Company (“Defendant”) violated the Clean Air Act, the New Mexico Air Quality Control Act, and the implementing regulations for 192 well completions in New Mexico by failing to comply with applicable well completion emissions control requirements, which resulted in excess emissions of greenhouse gases and volatile organic compounds. The complaint seeks an Order enjoining Defendant from further violating applicable requirements and requiring Defendant to remedy, mitigate, and offset the harm to public health and the environment caused by the violations and to pay a civil penalty.

Under the proposed settlement, Defendant agrees to pay a civil penalty of $9,400,000 (of which $4,700,000 is to be paid to the United States and $4,700,000 is to be paid to the State of New Mexico).

In addition, the settlement requires the Defendant to ensure ongoing compliance with all applicable regulatory requirements for all of its future well completions in New Mexico and hire an independent third party to verify compliance.

The publication of this notice opens a period for public comment on the proposed consent decree. Comments should be addressed to the Assistant Attorney General, Environment and Natural Resources Division, and should refer to United States and New Mexico Environment Department v. Hilcorp Energy Company, D.J. Ref. No. 90-5-2-1-12445. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the proposed consent decree may be examined and downloaded at this Justice Department website: http://www.justice.gov/enrd/consent-decrees. If you require assistance accessing the proposed consent decree, you may request assistance by email or by mail to the addresses provided above for submitting comments.

Thomas Carroll,
Assistant Section Chief, Environmental Enforcement Section, Environment and Natural Resources Division.

[FR Doc. 2024-24532 Filed 10-22-24; 8:45 am]

BILLING CODE 4410-15-P